NATIONAL SCIENCE FOUNDATION

Sunshine Act Meeting

Agency Holding Meeting: National Science Foundation, National Science Board and its Subdivisions.

Date and Time: September 27-28, 2006.

Wednesday, September 27, 2006, 8:30 a.m.-5:15 p.m.

8:30-9:30 Open.

9:30-10:15 Open.

10:15-11 Open.

11-12 Open.

12-12:30 Closed.

2-2:15 Open.

2:15-2:30 Closed.

2:30-3:15 Open.

3:15-5:15 Open.

Thursday, September 28, 2006, 9 a.m.-3 p.m.

9-9:15 Open.

9:15-9:30 Closed.

9:30-10:30 Open.

10:30-12 Open.

1:15-1:20 Closed.

1:20-1:25 Closed.

1:25-3 Open.

Place: National Science Foundation, 4201 Wilson Blvd., Room 1235, Arlington, VA 22230.

Public Meeting Attendance: All visitors must report to the NSF's visitor's desk at the 9th and N. Stuart Streets entrance to receive a visitor's badge.

FOR FURTHER INFORMATION CONTACT: Please refer to the National Science Board Web site (http://www.nsf.gov/nsb) for updated schedule. NSB Office: Dr. Robert Webber, (703) 292-7000.

Status: Part of this meeting will be closed to the public. Part of this meeting will be open to the public.

Matters to be Considered:

Wednesday, September 27, 2006

Open

CPP Subcommittee on Polar Issues (8:30 a.m.-9:30 a.m.)

• Chairman's Remarks

• Approval of Minutes

• Director's Remarks

• FY06 International Polar Year Solicitation Outcomes:

○ Education and Outreach

○ Research

• Emerging International Polar Partnerships

• Infrastructure Upgrades at Barrow, Toolik and Summit Research Stations

• McMurdo Access and Icebreaker Support

CPP Task Force on Transformative Research (9:30 a.m.-10:15 a.m.)

• Approval of Minutes for August 2006 Meeting

• Review of TR Draft Report and Recommendations

CPP Task Force on Hurricane Science and Engineering (10:15 a.m.-11 a.m.)

• Approval of Minutes for August 2006 Meeting

• Discussion of the Draft Report

• Future Activities of the Task Force

Committee on Audit and Oversight Open: (11 a.m.-12 p.m.)

• Approval of Minutes of August 2006 Meeting

• Audit of Interest in NSF Providing More Research Results

• FY 2007 Audit Plan

• CFO Update

Executive Committee Open: (2 p.m.-2:15 p.m.)

• Approval of Minutes for August 2006 Meeting

• Updates or New Business from Committee Members

CPP Task Force on International Science (2:30 p.m.-3:15 p.m.)

• Approval of Minutes

• Summary of the September 25 Roundtable Discussion

• Discussion of Future Task Force Activities

EHR Subcommittee on Science and Engineering Indicators (3:15 p.m.-5:15 p.m.)

• Approval of August Minutes

• Chairman's Remarks

• Introduction of Chapter Authors

• Discussion of Narrative Chapter Outlines

• Presentation by Dr. David Lightfoot, AD/SBE, on Science of Science Policy

• Parallel Discussion of Science and Engineering Indicators 2010

• Chairman's Summary

Closed

Committee on Audit and Oversight Closed: (12 p.m.-12:30 p.m.)

• Pending Investigations

Executive Committee Closed: (2:15 p.m.-2:30 p.m.)

• Specific Personnel Matters

• Future Budgets

Thursday, September 28, 2006

Open

Committee on Strategy and Budget Open: (9 a.m.-9:15 a.m.)

• Approval of August 10, 2006 CSB Minutes

• Update on NSF Working Group on the Impact of Proposal and Award Management Mechanisms Study of Award Size, Duration and Proposal Success Rates

• Status of NSF FY 2007 Budget Request

• Status of NSF Strategic Plan, FY 2006-2011

Committee on Programs and Plans (9:30 a.m.-10:30 a.m.)

• Approval of Minutes

• Status Reports:

○ Task Force on Transformative Research

○ Task Force on Hurricane Science & Engineering

○ Subcommittee on Polar Issues

○ Task Force on International Science

• Timing and Circumstances for Annual Board Reexamination of Priority Order of MREFC Candidates for New Start Projects: Dr. Ken Ford

• Transmitting Director's Review Board Packages to the National Science Board: Review of Process

Committee on Education and Human Resources (10:30 a.m.-12 p.m.)

• Approval of May 2006 Minutes

• Science Mathematics and Research for Transformation (SMART) Program

• Doctoral Completion Project

• Ensuring America's Competitive Edge through Education and Research: The NSF Role

• Subcommittee on Science and Engineering Indicators

• Update on November 7, 2006 NSB Workshop: “Moving Forward to Improve Engineering Education”

• NSB items

Closed

Committee on Strategy and Budget Closed: (9:15 a.m.-9:30 a.m.)

• Status of NSF FY 2008 Budget Request

Plenary Sessions of the Board (1:15 p.m.-3 p.m.)

Plenary Executive Closed (1:15 p.m.-1:20 p.m.)

• Approval of August 2006 Minutes

Plenary Closed (1:20 p.m.-1:25 p.m.)

• Approval of August 2006 Minutes

• Closed Committee Reports

Plenary Open (1:25 p.m.-3 p.m.)

• Approval of August 2006 Minutes

• Resolution to Close November 2006 Meeting

• Chairman's Report

• Director's Report

• Open Committee Reports

Michael P. Crosby,
Executive Officer and NSB Office Director.

[FR Doc. 06-7914 Filed 9-18-06; 12:53 pm]

BILLING CODE 7555-01-P